DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EMSSAB), Idaho National Engineering and Environmental Laboratory. The Federal Advisory Committee Act (Pub. L. No. 92-463, 86 Stat. 770) requires that public notice of this meeting be announced in the Federal Register.

DATES: Tuesday, March 15, 2005, 8 a.m.-6 p.m.; Wednesday, March 16, 2005, 8 a.m.-5 p.m.

Opportunities for public participation will be held Tuesday, March 15, from 12:15 to 12:30 p.m. and 5:45 to 6 p.m.; and on Wednesday, March 16, from 11:45 a.m. to 12 noon and 4 to 4:15 p.m. Additional time may be made available for public comment during the presentations.

These times are subject to change as the meeting progresses, depending on the extent of comment offered. Please check with the meeting facilitator to confirm these times.

ADDRESSES: Willard Arts Center, 498 “A” Street, Idaho Falls, ID 83402.

FOR FURTHER INFORMATION CONTACT: Ms. Peggy Hinman, INEEL Board Administrator, North Wind, Inc., PO Box 51174, Idaho Falls, ID 83405, Phone (208) 557-7885, or visit the Board's Internet Home page at http://www.ida.net/users/cab.

SUPPLEMENTARY INFORMATION: Purpose of the Board: The purpose of the Board is to make recommendations to DOE in the areas of environmental restoration, waste management, and related activities.

Tentative Agenda: (Agenda topics may change up to the day of the meeting; please contact Peggy Hinman for the most current agenda or visit the Board's Internet site at http://www.ida.net/users/cab/):

• Cleanup and closure of the Idaho Nuclear Technology and Engineering Center (including the high-level waste program, the spent nuclear fuel program, the Foster-Wheeler facility, and the Idaho Comprehensive Environmental Response, Compensation, and Liability Act Disposal Facility)

• Engineering Evaluation and Cost Analysis for the Accelerated Retrieval Project

• Independent Risk Assessment prepared by the Consortium for Risk Evaluation with Stakeholder Participation in support of DOE's end state vision for the Idaho National Laboratory

Public Participation: The meeting is open to the public. Written statements may be filed with the Board administrator either before or after the meeting. Individuals who wish to make oral presentations pertaining to agenda items should contact the Board Chair at the address or telephone number listed above. The request must be received five days prior to the meeting and reasonable provision will be made to include the presentation in the agenda. The Deputy Designated Federal Officer, Richard Provencher, Assistant Manager for Environmental Management, Idaho Operations Office, U.S. Department of Energy, is empowered to conduct the meeting in a fashion that will facilitate the orderly conduct of business. Individuals wishing to make public comment will be provided equal time to present their comments.

Minutes: The minutes of this meeting will be available for public review and copying at the Department of Energy's Freedom of Information Public Reading Room, 1E-190, Forrestal Building, 1000 Independence Avenue, SW., Washington, DC 20585 between 9 a.m. and 4 p.m., Monday through Friday, except Federal holidays. Minutes will also be available by writing to Ms. Peggy Hinman, INEEL Board Administrator, at the address and phone number listed above.

Issued at Washington, DC on February 16, 2005.
Rachel Samuel,
Deputy Advisory Committee Management Officer.

[FR Doc. 05-3509 Filed 2-23-05; 8:45 am]

BILLING CODE 6450-01-P